DEPARTMENT OF ENERGY

Environmental Management Site-Specific Advisory Board, Oak Ridge Reservation

AGENCY: Department of Energy.

ACTION: Notice of open meeting.

SUMMARY: This notice announces a meeting of the Environmental Management Site-Specific Advisory Board (EM SSAB), Oak Ridge. The Federal Advisory Committee Act (Pub. L. 92-463, 86 Stat. 770) requires that public notice of these meetings be announced in the Federal Register.

DATES: Saturday, August 7, 2004, 8 a.m.-5 p.m.

ADDRESSES: DOE Information Center, 475 Oak Ridge Turnpike, Oak Ridge, TN.

FOR FURTHER INFORMATION CONTACT: Pat Halsey, Federal Coordinator, Department of Energy Oak Ridge Operations Office, P.O. Box 2001, EM-90, Oak Ridge, TN 37831. Phone (865) 576-4025; Fax (865) 576-5333 or e-mail: halseypj@oro.doe.gov or check the Web site at www.oakridge.doe.gov/em/ssab.

SUPPLEMENTARY INFORMATION: Purpose of the Board: The purpose of the Board is to make recommendations to DOE in the areas of environmental restoration, waste management, and related activities.

Tentative Agenda

8 a.m.—Introductions, overview of meeting agenda and logistics (Dave Mosby)

8:15 a.m.—Past year evaluation—Board and stakeholder survey results, what worked, what can be improved (Facilitator)

9:50 a.m.—Break

10:05 a.m.—Past year evaluation continued

10:45 a.m.—Summaries and Q&A on the most important issues to DOE, TN Department of Environment & Conservation, and EPA (Facilitator)

11:30 a.m.—Lunch

12:30 p.m.—Environmental Management Committee (Luther Gibson)

• Accomplishments and impacts

• Review FY 2004 Work Plan

• Identify issues for FY 2005

• Assignment of new issues/issues managers

1:30 p.m.—Stewardship Committee (Ben Adams)

• Accomplishments and impacts

• Review FY 2004 Work Plan

• Identify issues for FY 2005

• Assignment of new issues/issues managers

2:30 p.m.—Break

2:45 p.m.—Public Outreach Committee (Committee Chair)

• Accomplishments and impacts

• Review FY 2004 Work Plan

• Identify issues for FY 2005

3:15 p.m.—Board Finance Committee (Kerry Trammell)

• Accomplishments and impacts

• Review FY 2004 Work Plan

• Identify issues for FY 2005

3:45 p.m.—Convene Board meeting to elect officers and conduct other business as needed

• Public Comment Period

4:45 p.m.—Set date for next retreat and adjourn

Public Participation: The meeting is open to the public. Written statements may be filed with the Committee either before or after the meeting. Individuals who wish to make oral statements pertaining to agenda items should contact Pat Halsey at the address or telephone number listed above. Requests must be received five days prior to the meeting and reasonable provision will be made to include the presentation in the agenda. The Deputy Designated Federal Officer is empowered to conduct the meeting in a fashion that will facilitate the orderly conduct of business. Each individual wishing to make public comment will be provided a maximum of five minutes to present their comments. This Federal Register notice is being published less than 15 days prior to the meeting due to programmatic issues that had to be resolved prior to the meeting date.

Minutes: Minutes of this meeting will be available for public review and copying at the Department of Energy's Information Center at 475 Oak Ridge Turnpike, Oak Ridge, TN between 8 a.m. and 5 p.m. Monday through Friday, or by writing to Pat Halsey, Department of Energy Oak Ridge Operations Office, P.O. Box 2001, EM-90, Oak Ridge, TN 37831, or by calling her at (865) 576-4025.

Issued at Washington, DC, on July 20, 2004.
Rachel M. Samuel,
Deputy Advisory Committee Management Officer.

[FR Doc. 04-17049 Filed 7-26-04; 8:45 am]

BILLING CODE 6450-01-P